UNITED STATES COMMISSION ON CIVIL RIGHTS

Sunshine Act Notice

AGENCY: U.S. Commission on Civil Rights.

DATE AND TIME: Friday, May 12, 2000, 9:30 a.m.

PLACE: U.S. Commission on Civil Rights, 624 Ninth Street, N.W., Room 540, Washington, DC 20425.

STATUS:

Agenda

I. Approval of Agenda

II. Approval of Minutes of April 14, 2000 Meeting

III. Announcements

IV. Staff Director's Report

V. Police Practices and Civil Rights in New York City Report

VI. Future Agenda Items

CONTACT PERSON FOR FURTHER INFORMATION: David Aronson, Press and Communications (202) 376-8312.

Edward A. Hailes, Jr.,
Acting General Counsel.

[FR Doc. 00-11282 Filed 5-2-00; 2:48 pm]

BILLING CODE 6335-01-M